OFFICE OF THE UNITED STATES TRADE REPRESENTATIVE

New Requests for Exclusion of Particular Products From Actions With Regard to Certain Steel Products Under Section 203 of the Trade Act of 1974, as Established in Presidential Proclamation 7529 of March 5, 2002; Information Collection and Procedures for Consideration

AGENCY: Office of the United States Trade Representative.

ACTION: Notice.

SUMMARY: Presidential Proclamation 7529 of March 5, 2002 established actions under section 203 of the Trade Act of 1974, as amended, (19 U.S.C. 2253) (safeguard measures) with regard to certain steel products. The Proclamation authorizes the United States Trade Representative (USTR), in March of each year in which any safeguard measure established by the Proclamation remains in effect and after consultation with the Trade Policy Staff Committee (TPSC), to exclude particular products from the safeguard measure. In a Memorandum of March 5, 2002, the President instructed the USTR to publish in the Federal Register a notice of the procedures by which interested persons may request the TPSC to recommend whether to exclude a particular product. This notice describes the annual review process through which future new exclusion requests will be accepted.

Under the provisions of the Paperwork Reduction Act of 1995 (44 U.S.C. chapter 35), USTR will be submitting to the Office of Management and Budget (OMB) a request to review and approve an information collection related to interested persons' reasons for requesting an exclusion, and any other interested persons' reasons for opposing the granting of an exclusion.

DATES: Submit public comments on the information collection on or before August 2, 2002.

FOR FURTHER INFORMATION CONTACT: Office of Industry, Office of the United States Trade Representatives, 600 17th Street, NW, Room 501, Washington DC, 20508. Telephone (202) 395-5656.

SUPPLEMENTARY INFORMATION: On October 22, 2001, the U.S. International Trade Commission (ITC) issued affirmative determinations under section 202(b) of the Trade Act (22 U.S.C. 2252(b)) that (1) carbon and alloy steel slabs, plate (including cut-to-length plate and clad plate), hot-rolled sheet and strip (including plate in coils), cold-rolled sheet and strip (other than grain-oriented electrical steel), and corrosion-resistant and other coated sheet and strip; (2) carbon and alloy hot-rolled bar and light shapes; (3) carbon and alloy cold-finished bar; (4) rebar; (5) carbon and alloy welded tubular products (other than oil country tubular goods); (6) carbon and alloy flanges, fittings, and tool joints; (7) stainless steel bar and light shapes; and (8) stainless steel rod are being imported in such increased quantities as to be a substantial cause of serious injury, or the threat thereof, to the domestic industries producing those products. The Commissioners voting were equally divided with respect to the determination under section 202(b) of the Trade Act as to whether increased imports of (9) carbon and alloy tin mill products; (10) tool steel, all forms; (11) stainless steel wire; and (12) stainless steel flanges and fittings are being imported in such increased quantities as to be a substantial cause of serious injury, or the threat thereof, to the domestic industries producing those products.

On March 5, 2002, the President issued Proclamation 7529, which established safeguard measures in the form of increases in duty and a tariff-rate quota pursuant to section 203 of the Trade Act on imports of the ten steel products described in paragraph 7 of that proclamation. Effective with respect to goods entered, or withdrawn from warehouse for consumption, on or after 12:01 a.m., EST, on March 20, 2002, Proclamation 7529 modifies the HTS so as to provide for such increased duties and a tariff-rate quota. Proclamation 7529 also authorized the USTR to further consider requests for the exclusion of particular products and, upon publication in the Federal Register of his finding that a particular product should be excluded, to modify the HTS provisions created by the Annex to that proclamation to exclude such particular product from the pertinent safeguard measure. USTR requested additional information about these exclusions, in the form of a requester's questionnaire from interested persons that had requested exclusions, and an objector's questionnaire from interested persons that had opposed such requests.

Proclamation 7529 authorized the USTR, in March of each year in which any safeguard measure established by the Proclamation remains in effect and after consultation with the TPSC, to exclude particular products from the safeguard measure. In a Memorandum of March 5, 2002, the President instructed the USTR to publish in the Federal Register a notice of the procedures by which interested persons may request the TPSC to recommend whether to exclude a particular product.

USTR, in conjunction with the U.S. Department of Commerce (Commerce), has concluded that the new requester and new objector questionnaires used with regard to the new exclusion requests submitted on May 20, 2002, will elicit the information needed to evaluate whether to grant the exclusion of a particular product in March 2003, March 2004, or at such other time as may be permitted by Proclamation 7529. USTR and Commerce have further concluded that interested persons that already submitted requester's questionnaires for a product should file an updated requester's questionnaire that revises and supplements the previously submitted request. Anyone that previously submitted an objection to such request must also file a revised objector's questionnaire updating the information previously submitted.

Submission of Requests for Exclusion and Opposition to Requests for Exclusion

In November 2002 and November 2003, or at any other time that may be appropriate, USTR will publish in the Federal Register a notice inviting any interested persons seeking the exclusion of a particular product to submit (1) for previously submitted product exclusion requests, an updated requester questionnaire, referencing the alphanumeroc tracking number assigned to the product, that revises the previously submitted version and provides any additional information the requester deems necessary for our analysis; or (2) a new requester questionnaire. A list of products for which we have received a requester questionnaire that we have deemed to be appropriately filed is available from the USTR and Commerce Department websites, http://ia.ita.doc.gov/steel/exclusion/. Any updated requester questionnaire or new requester questionnaire should be submitted within 30 days of the date of publication of the Federal Register notice described in this paragraph.

Within 15 business days after the date for submitting questionnaires, USTR will post a summary of the requested exclusions on its website. Interested persons opposing any request for exclusion should submit (1) for objections previously submitted, an updated objector's questionnaire, referencing the appropriate alphanumeric tracking number, that revises the previously submitted version and provides any additional information the objector deems necessary for our analysis; or (2) a new objector's questionnaire. Interested persons objecting to new requests or filing revised objector's questionnaires regarding previously submitted requests should submit their objections within 30 days following the posting of the product description summaries on the USTR website.

These questionnaires will be available on the USTR and Commerce Department websites at http://ia.ita.doc.gov/steel/exclusion/. USTR may disregard an exclusion request for a particular product if a complete response to the requester's questionnaires has not been received with regard to that product by the applicable date. USTR may conclude that there is no opposition with regard to the exclusion of a particular product if a complete response to the new objector's questionnaire with regard to that product has not been received by the applicable date.

Each request will be evaluated on a case-by-case basis. USTR will grant only those exclusions that do not undermine the objectives of the safeguard measures. In analyzing the requests, USTR will consider whether the product is currently being produced in the United States, whether substitution of the product is possible, whether qualification requirements affect the requester's ability to use domestic products, inventories, whether the requested product is under development by a U.S. producer who will imminently be able to produce it in commercial quantities and any other relevant factors. Where necessary, USTR and/or the Commerce Department will meet with interested persons to discuss the information that was submitted and/or to gain additional information.

Every effort will be made to process requests as soon as possible consistent with resources and the quality of information that is received.

Interested persons should follow the instructions posted on the USTR and Commerce Department web sites at http://ia.ita.doc.gov/steel/exclusion/. Failure to follow the instructions posted there may result in rejection of the questionnaire submission.

We will assign each product covered by new request an alpha-numeric tracking number such as “N299.3,” and will notify requesters as soon as possible after receipt of the submission. All interested persons must use this alpha-numeric designator in every subsequent reference to that exclusion request.

We strongly discourage the submission of business confidential information. Any questionnaire response that contains business confidential information must be accompanied by six copies of a public summary that does not contain business confidential information, and a diskette containing an electronic version of the public summary. Any paper submission and diskette containing business confidential information must be clearly marked “Business Confidential” at the top and bottom of the cover page (or letter) and each succeeding page of the submission, and on the label of the diskette. The version that does not contain business confidential information should also be clearly marked, at the top and bottom of each page, “public version” or “nonconfidential,” and on the label of the diskette.

Annual Reporting Burden

Updated Requester's Questionnaire

Respondents: 200.

Responses per respondent: 6.5.

Annual responses: 1300.

Hours per response: 2.

Total burden hours: 2600.

New Requester's Questionnaire

Respondents: 50.

Responses per respondent: 2.

Annual responses: 100.

Hours per response: 15.

Total burden hours: 1500.

Updated Objector's Questionnaire

Respondents: 17.

Responses per respondent: 85.

Annual responses: 1444.

Hours per response: 1.5.

Total burden hours: 2166.

New Objector's Questionnaire

Respondents: 17.

Responses per respondent: 6.5.

Annual responses: 111.

Hours per response: 11.

Total burden hours: 1221.

Request for Public Comments Pursuant to the Paperwork Reduction Act

We particularly invite public comment on: Whether this collection of information is necessary for the proper performance of the functions of the USTR, and whether it will have practical utility; whether our estimate of the public burden of this information collection is accurate, and based on valid assumptions and methodology; ways to enhance the quality, utility, and clarity of the information to be collected; and ways in which we can minimize the burden of the information collection on those who are to respond, through the use of appropriate technological collection techniques or other forms of information technology. Any public comment should be submitted to USTR, Office of Industry, 600 E Street, NW., Washington, DC 20508, Attn. PRA Comments. Comments should clearly indicate the questionnaire (requester's questionnaire or objector's questionnaire) to which they apply.

Obtaining Copies of Proposals

Interested persons may obtain a copy of the requester's questionnaire or the objector's questionnaire from the USTR Office of Industry, 600 E Street, NW., Washington, DC 20508, Attn. Questionnaire Copy, fax 202-395-9674, telephone 202-395-5656. Please indicate clearly the questionnaire sought (requester's questionnaire or objector's questionnaire).

Jon M. Huntsman, Jr.,
Deputy United States Trade Representative.

[FR Doc. 02-13923 Filed 5-30-02; 2:04 pm]

BILLING CODE 3190-01-M